ENVIRONMENTAL PROTECTION AGENCY

[EPA-HQ-OPP-2010-0012; FRL-8813-2]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before April 19, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have a typical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 9E7554. (EPA-HQ-OPP-2007-0099). Nichino America, Inc., 4550 New Linden Hill Road, Suite 501, Wilmington, DE 19808, proposes to establish a tolerance in 40 CFR part 180 for residues of the insecticide flubendiamide, (N²-[1,1-dimethyl-2-(methylsulfonyl)ethyl]-3-iodo- N¹-[2-methyl-4-[1,2,2,2-tetrafluoro-1-(trifluoromethyl)ethyl]phenyl-1,2-benzenedicarboxamide, in or on rice, grain at 0.5 parts per million (ppm). Independently validated, analytical methods for crop matrices have been submitted for measuring flubendiamide. Typically, plant matrices samples are extracted, concentrated, and quantified by liquid chromatography/mass spectrometry/mass spectrometry (LC/MS/MS) using deuterated internal standards. Contact: Carmen Rodia, (703) 306-0327, e-mail address: rodia.carmen@epa.gov.

2. PP 9E7652. (EPA-HQ-OPP-2009-1008). The Interregional Research Project No. 4 (IR-4), 500 College Road East, Suite 201W, Princeton, NJ 08540, proposes to establish tolerances in 40 CFR part 180 for residues of the insecticide bifenthrin, (2-methyl [1,1′-biphenyl]-3-yl) methyl-3-(2-chloro-3,3,3,-trifluoro-1-propenyl)-2,2-dimethylcyclopropanecarboxylate), in or on tea (import tolerance) at 25 ppm; and tolerances with regional registrations in or on grass, forage at 2.5 ppm and grass, hay at 4.5 ppm. There is a practical analytical method for detecting and measuring levels of bifenthrin in or on food with a limit of detection (LOD) that allows monitoring of food with residues at or above the levels set in these tolerances: Gas chromatography with electron capture detection (GC/ECD). Contact: Laura Nollen, (703) 305-7390, e-mail address: nollen.laura@epa.gov.

3. PP 9E7659. (EPA-HQ-OPP-2009-1009). The Interregional Research Project No. 4 (IR-4), 500 College Road East, Suite 201W, Princeton, NJ 08540, proposes to establish tolerances in 40 CFR part 180 for the combined residues of the fungicide propiconazole, (1-[[2-(2,4-dichlorophenyl)-4-propyl-1,3-dioxolan-2-yl] methyl]-1H-1,2,4-triazole) and its metabolites determined as 2,4-dichlorobenzoic acid and expressed as parent compound, in or on onion, bulb, subgroup 3-07A at 0.2 ppm; onion, green, subgroup 3-07B at 9.0 ppm; caneberry subgroup 13-07A at 1.0 ppm; bushberry subgroup 13-07B at 1.0 ppm; and low growing berry subgroup 13-07G, except cranberry at 1.3 ppm. Analytical methods AG-626 and AG-454A were developed for the determination of residues of propiconazole and its metabolites containing the dichlorobenzoic acid (DCBA) moiety. Analytical method AG-626 has been accepted and published by EPA as the tolerance enforcement method for crops. The limit of quantitation (LOQ) for the method is 0.05 ppm. Contact: Andrew Ertman, (703) 308-9367, e-mail address: ertman.andrew@epa.gov.

4. PP 9E7669. (EPA-HQ-OPP-2010-0102). The Interregional Research Project No. 4 (IR-4), 500 College Road East, Suite 201W, Princeton, NJ 08540, proposes to establish tolerances in 40 CFR part 180 for residues of the herbicide, triflusulfuron methyl, 2 [[[[[4-(dimethylamino)-6-(2,2,2-trifluoroethoxy)-1,3,5-triazin-2-yl]amino]carbonyl]amino]sulfonyl]-3-methylbenzoate, in or on beet, garden, roots at 0.01 ppm; and beet, garden, tops at 0.02 ppm. A method for quantitation of triflusulfuron methyl in garden beets uses a high performance liquid chromatograph (HPLC) with eluent and column-switching and ultra-violet (UV) detection at 232 nanometer (nm) for the determination of triflusulfuron methyl residues in garden beet foliage and roots. Sample clean-up is achieved through reversed phase chromatography using eluent-switching. Column-switching provides the resolution required for quantitation of triflusulfuron methyl. The calculated LOQ values were 0.0069 ppm for roots and 0.0044 ppm on tops (leaves) respectively. Triflusulfuron methyl is detected at levels as low as 0.005 ppm. Triflusulfuron methyl recoveries averaged 99% for foliage and 110% for roots. Contact: Laura Nollen, (703) 305-7390, e-mail address: nollen.laura@epa.gov.

5. PPs 9F7553 and 9F7555. (EPA-HQ-OPP-2007-0099). Nichino America, Inc., 4550 New Linden Hill Road, Suite 501, Wilmington, DE 19808, proposes to establish tolerances in 40 CFR part 180 for residues of the insecticide flubendiamide, (N²-[1,1-dimethyl-2-(methylsulfonyl)ethyl]-3-iodo- N¹-[2-methyl-4-[1,2,2,2-tetrafluoro-1-(trifluoromethyl)ethyl]phenyl-1,2-benzenedicarboxamide, in or on vegetable, legume, edible podded, subgroup 6A at 0.5 ppm; pea and bean, succulent shelled, subgroup 6B at 0.04 ppm; pea and bean, dried shelled, except soybean, subgroup 6C at 0.8 ppm; vegetable, foliage of legume, except soybean, subgroup 7A at 35 ppm; soybeans, aspirated grain fractions at 91 ppm; soybean, forage at 18 ppm; soybean, hay at 60 ppm; and soybean, hulls at 0.7 ppm (9F7553); and rice, straw as a rotational crop at 0.07 ppm (9F7555). Independently validated, analytical methods for crop matrices have been submitted for measuring flubendiamide. Typically, plant matrices samples are extracted, concentrated, and quantified by liquid chromatography/mass spectrometry/mass spectrometry (LC/MS/MS) using deuterated internal standards. Contact: Carmen Rodia, (703) 306-0327, e-mail address: rodia.carmen@epa.gov.

6. PP 9F7655. (EPA-HQ-OPP-2010-0031). Bayer CropScience, 2 T. W. Alexander Drive, Research Triangle Park, NC 27709, proposes to establish tolerances in 40 CFR part 180 for residues of the herbicide glufosinate ammonium and its metabolites expressed as butanoic acid, 2-amino-4-(hydroxymethylphosphinyl)-, monoammonium salt, 2-acetamido-4-methylphosphinico-butanoic acid (Hoe 099730 or N-Acetyl Glufosinate) and 3-methylphosphinico-propionic acid (Hoe 061517 or MPP) expressed as glufosinate free acid equivalents, in or on citrus fruit, crop group 10 (including varieties and/or hybrids) and all associated processed fractions at 0.05 ppm; pome fruits, crop group 11 and all associated processed fractions at 0.10 ppm; stone fruit, crop group 12 at 0.10 ppm; dried plums (dried prunes) at 0.2 ppm; and olives and the processed fraction olive oil at 0.05 ppm. The enforcement analytical method utilizes gas chromatography for detecting and measuring levels of glufosinate-ammonium and metabolites with a general limit of quantification of 0.05 ppm. This method allows detection of residues at or above the proposed tolerances. Contact: James Stone, (703) 305-7391, e-mail address: stone.james@epa.gov.

7. PP 9F7667. (EPA-HQ-OPP-2010-0122). Syngenta Crop Protection, Inc., PO Box 18300, Greensboro, NC 27419-8300, proposes to establish a tolerance in 40 CFR part 180 for residues of the herbicide sodium salt of fomesafen, 5-[2-cloro-4-(trifluoromethyl)phenoxy]-N-(methylsulfonyl)-2-nitrobenzamide, in or on peppers at 0.025 ppm. An analytical method using chemical derivatization followed by gas chromatography with nitrogen-phosphorus detection (GC-NPD) has been developed and validated for residues of fomesafen in snap/dry beans, cotton seed and cotton gin byproducts, as well as for other crops. The LOQ is 0.025 ppm. Contact: Michael Walsh, (703) 308-2972, e-mail address: walsh.michael@epa.gov.

Amended Tolerance

PP 9E7659. (EPA-HQ-OPP-2009-1009). The Interregional Research Project No. 4 (IR-4), 500 College Road East, Suite 201W, Princeton, NJ 08540, proposes to amend the tolerances in 40 CFR 180.434 by increasing the tolerances for the combined residues of the fungicide propiconazole, (1-[[2-(2,4-dichlorophenyl)-4-propyl-1,3-dioxolan-2-yl] methyl]-1H-1,2,4-triazole) and its metabolites determined as 2,4-dichlorobenzoic acid and expressed as parent compound, in or on peppermint, tops and spearmint, tops from 3.5 ppm to 10 ppm; and by removing the tolerances for berry group 13 at 1.0 ppm; onion, bulb at 0.2 ppm; onion, green at 9.0 ppm and strawberry at 1.3 ppm. Analytical methods AG-626 and AG-454A were developed for the determination of residues of propiconazole and its metabolites containing the DCBA moiety. Analytical method AG-626 has been accepted and published by EPA as the tolerance enforcement method for crops. The limit of quantitation (LOQ) for the method is 0.05 ppm. Contact: Andrew Ertman, (703) 308-9367, e-mail address: ertman.andrew@epa.gov.

New Tolerance Exemptions

1. PP 9E7631. (EPA-HQ-OPP-2009-0098). Joint Inerts Task Force, Cluster Support Team 14, EPA Company Number 84946, c/o CropLife America, 1156 15th St., NW., Suite 400, Washington, DC 20005, proposes to establish an exemption from the requirement of a tolerance for residues of sodium and potassium salts of N-alkyl (C8-C18)-β-iminodipropionic acid (SSNA) under 40 CFR 180.910 and 180.930 when used as inert ingredients in pesticide formulations, limited to a maximum of 30% by weight in end-use products for the following sodium and potassium salts of N-alkyl (C8-C18)-beta-iminodipropionic acid where the C8-C18 is linear and may be saturated and/or unsaturated: β-alanine, N-(2-carboxyethyl-N-octadecyl-, dipotassium salt (110676-19-2); β-alanine, N-(2-carboxyethyl)-N-dodecyl-disodium salt (3655-00-3); β-alanine, N-(2-carboxyethyl)-N-tallow alkyl derivatives-, disodium salts (61791-56-8); β-alanine, N-(2-carboxyethyl)-N-dodecyl-, monosodium salts (14960-06-6); β-alanine, N-(2-carboxyethyl)-N-dodecyl-, disodium salt (26256-79-1); β-alanine, N-(2-carboxyethyl)-N-coco alkyl derivatives, disodium salts (90170-43-7); β-alanine, N-(2-carboxyethyl)-N-(C8-C18 and C18 unsaturated alkyl) derivatives, disodium salt (91696-17-2); β-alanine, N-(2-carboxyethyl)-N-(C14-C18 and C18 unsaturated alkyl) derivatives, disodium salt (97862-48-1). The petitioner believes no analytical method is needed because requirements for an analytical method are not applicable to a request to establish an exemption from the requirement of a tolerance. Contact: Karen Samek, (703) 347-8825, e-mail address: samek.karen@epa.gov.

2. PP 9E7636. (EPA-HQ-OPP-2009-0098). Joint Inerts Task Force, Cluster Support Team 14, EPA Company Number 84946, c/o CropLife America, 1156 15th St., NW., Suite 400, Washington, DC 20005, proposes to establish an exemption from the requirement of a tolerance for residues of sodium and potassium salts of N-alkyl (C8-C18)-β-iminodipropionic acid (SSNA) under 40 CFR 180.940 when used as inert ingredients in pesticide formulations, limited to a maximum of 30% by weight in end-use products for the following sodium and potassium salts of N-alkyl (C8-C18)-β-iminodipropionic acid where the C8-C18 is linear and may be saturated and/or unsaturated: β-alanine, N-(2-carboxyethyl-N-octadecyl-, dipotassium salt (110676-19-2); β-alanine, N-(2-carboxyethyl)-N-dodecyl-disodium salt (3655-00-3); β-alanine, N-(2-carboxyethyl)-N-tallow alkyl derivatives-, disodium salts (61791-56-8); β-alanine, N-(2-carboxyethyl)-N-dodecyl-, monosodium salts (14960-06-6); β-alanine, N-(2-carboxyethyl)-N-dodecyl-, disodium salt (26256-79-1); β-alanine, N-(2-carboxyethyl)-N-coco alkyl derivatives, disodium salts (90170-43-7); β-alanine, N-(2-carboxyethyl)-N-(C8-C18 and C18 unsaturated alkyl) derivatives, disodium salt (91696-17-2); β-alanine, N-(2-carboxyethyl)-N-(C 14-C18 and C18 unsaturated alkyl) derivatives, disodium salt (97862-48-1). The petitioner believes no analytical method is needed because requirements for an analytical method are not applicable to a request to establish an exemption from the requirement of a tolerance. Contact: Karen Samek, (703) 347-8825, e-mail address: samek.karen@epa.gov.

3. PP 9E7649. (EPA-HQ-OPP-2010-0033). BASF Corporation, 100 Campus Drive, Florham Park, NJ 07932, proposes to establish an exemption from the requirement of a tolerance for residues of 2-Propenoic acid, polymer with 1,3-butadiene and ethenylbenzene (CAS No. 25085-39-6) under 40 CFR 180.960 when used as a pesticide inert ingredient as a surfactant in pesticide formulations without limits. The petitioner believes no analytical method is needed because requirements for an analytical method are not applicable to a request to establish an exemption from the requirement of a tolerance. Contact: Elizabeth Fertich, (703) 347-8560, e-mail address: fertich.elizabeth@epa.gov.

4. PP 9E7647. (EPA-HQ-OPP-2008-0739). Joint Inerts Task Force, Cluster Support Team 13, EPA Company Number 84949, c/o CropLife America, 1156 15th St., NW, Suite 400, Washington, DC 20005, proposes to establish an exemption from the requirement of a tolerance for residues of Sodium 1,4-dialkyl sulfosuccinates (SDSS) inert ingredients under 40 CFR 180.910 and 180.930 when used as a pesticide inert ingredient in pesticide formulations, including: Sodium 1,4-dihexyl sulfosuccinate (Butanedioic acid, sulfo, 1,4-bis dihexyl ester sodium salt) (3006-15-3); Sodium 1,4-diisobutyl sulfosuccinate (Butanedioic acid, sulfo, 1,4-bis diisobutyl ester, sodium salt) (127-39-9); Sodium 1,4-dipentyl sulfosuccinate (Butanedioic acid, sulfo, 1,4-bis dipentyl ester sodium salt) (922-80-5). The petitioner believes no analytical method is needed because requirements for an analytical method are not applicable to a request to establish an exemption from the requirement of a tolerance. Contact: Karen Samek, (703) 347-8825, e-mail address: samek.karen@epa.gov.

List of Subjects

Environmental protection, Agricultural commodities, Feed additives, Food additives, Pesticides and pests, Reporting and recordkeeping requirements.

Dated: March 10, 2010.
Lois Rossi,
Director, Registration Division, Office of Pesticide Programs.

[FR Doc. 2010-6074 Filed 3-18-10; 8:45 am]

BILLING CODE 6560-50-S